DEPARTMENT OF HEALTH AND HUMAN SERVICES

National Institute for Occupational Safety and Health; Decision to Evaluate a Petition To Designate a Class of Employees at Hanford Nuclear Reservation, Richland, WA, To Be Included in the Special Exposure Cohort

AGENCY: National Institute for Occupational Safety and Health (NIOSH), Department of Health and Human Services (HHS).

ACTION: Notice.

SUMMARY: The Department of Health and Human Services (HHS) gives notice as required by 42 CFR 83.12(e) of a decision to evaluate a petition to designate a class of employees at the Hanford Nuclear Reservation, Richland, Washington, to be included in the Special Exposure Cohort under the Energy Employees Occupational Illness Compensation Program Act of 2000. The initial proposed definition for the class being evaluated, subject to revision as warranted by the evaluation, is as follows:

Facility: Hanford Nuclear Reservation.

Location: Richland,Washington.

Job Title and/or Job Duties: All former Dupont production workers in the 100 area and the 300 area and all 200 area production workers and all guards and construction workers.

Period of Employment: January 1, 1943 through September 1, 1946 for former Dupont production workers in the 100 and 300 areas and December 1, 1944 through September 1, 1946 for all 200 area production workers and all guards and construction workers.

FOR FURTHER INFORMATION CONTACT: Larry Elliott, Director, Office of Compensation Analysis and Support, National Institute for Occupational Safety and Health (NIOSH), 4676 Columbia Parkway, MS C-46, Cincinnati, OH 45226, Telephone 513-533-6800 (this is not a toll-free number). Information requests can also be submitted by e-mail to OCAS@CDC.GOV.

Dated: January 12, 2007.
John Howard,
Director, National Institute for Occupational Safety and Health.

[FR Doc. 07-194 Filed 1-18-07; 8:45 am]

BILLING CODE 4163-19-M